ENVIRONMENTAL PROTECTION AGENCY

[EPA-HQ-OW-2006-0408; FRL-8205-8]

Agency Information Collection Activities; Proposed Collection; Comment Request; Reporting and Recordkeeping Requirements Under EPA's Water Efficiency Program; EPA ICR No. 2233.01, OMB Control No. New

AGENCY: Environmental Protection Agency.

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before October 3, 2006.

ADDRESSES: Submit your comments, identified by Docket ID No. EPA-HQ-OW-2006-0408 by one of the following methods:

• http://www.regulations.gov: Follow the on-line instructions for submitting comments.

• E-mail: simbanin.cynthia@epa.gov.

• Fax: 202-501-2396.

• Mail: EPA Docket Center, Water Docket, Environmental Protection Agency, Mailcode 4101T, 1200 Pennsylvania Ave., NW., Washington, DC 20460.

• Hand Delivery: Water Docket, in the EPA Docket Center, EPA West, Room B102, 1301 Constitution Ave., NW., Washington, DC. Such deliveries are only accepted during the Docket's normal hours of operation, and special arrangements should be made for deliveries of boxed information.

Instructions: Direct your comments to Docket ID No. EPA-HQ-OW-2006-0408. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at http://www.epa.gov/epahome/dockets.htm for current information on docket operations, locations and telephone numbers. The Docket Center's mailing address for U.S. mail and the procedure for submitting comments to http://www.regulations.gov are not affected by the flooding and will remain the same.

FOR FURTHER INFORMATION CONTACT: Cindy Simbanin, Office of Wastewater Management, Office of Water, 4204M, Environmental Protection Agency, 1200 Pennsylvania Ave., NW., Washington, DC 20460; telephone number: 202-564-3837, fax number: 202-501-2396; e-mail address: simbanin.cynthia@epa.gov.

SUPPLEMENTARY INFORMATION:

How Can I Access the Docket and/or Submit Comments?

EPA has established a public docket for this ICR under Docket ID No. EPA-HQ-OW-2006-0408, which is available for online viewing at http://www.regulations.gov, or in person viewing at the Water Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider when I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are manufacturers, service providers, retailers, businesses, institutions, builders and others who voluntarily sign up to participate in EPA's Water Efficiency Program.

Title: Reporting and Recordkeeping Requirements Under EPA's Water Efficiency Program.

ICR numbers: EPA ICR No. 2236.01, OMB Control No. 2040-New.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA's Water Efficiency Program is a voluntary program designed to create self-sustaining markets for water efficient products and services via a common label. The program provides incentives for manufacturers to design, produce, and market water-efficient products. In addition, the program provides incentives for service providers (e.g. landscapers) to deliver water-efficient products. The program also encourages consumers and commercial and institutional purchasers of water-using products and systems to choose water-efficient products and engage in water-efficient practices.

EPA's Water Efficiency Program partners with manufacturers, retailers, utilities, state and local governments, NGOs, plumbers, developers, contractors, architects, landscapers, irrigation professionals, and service certification programs to market and adopt the Water Efficiency Program, and provide labeled products and services. To participate in the program, organizations will complete a Partnership Agreement, which details the partner and EPA commitments under the program, and is signed by a senior official at both EPA and the partner organization. EPA asks manufacturers, certification programs, and builders to submit an EPA Water Efficiency Program Labeled Product or Service Application within 12 months of execution of the Partnership Agreement. This document provides EPA information to verify that the product or service meets EPA specifications based on independent testing. EPA will use this information to inform the public on water efficient products and services. In addition, EPA requests partners submit promotional plans and annual updates on progress implementing the program. EPA intends to use this information to identify partnership opportunities and assess progress meeting program goals.

In the third year of the program, EPA plans to initiate an awards program that will require interested partners to submit an awards application form. The purpose of this information collection is to document partner successes for further recognition. Partners may designate certain information submitted under this ICR as confidential business information. All information identified as confidential business information collected under this ICR will not be available to the public.

Burden Statement: The annual public reporting and recordkeeping burden for this information collection is estimated to average 8 hours per response for the Partnership Agreement, 13 hours per response for the Promotional Plan, 18 hours per response for the Annual Update, and 21 hours for the Awards Application Form. This results in an estimated annual partner respondent burden of 39 hours if not applying for an award and 60 hours if applying for an award. In addition, manufacturers and certification programs will incur an estimated 21 hours per labeled product or service to complete the Labeled Product or Service Application Form. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: EPA anticipates that 100 partners will participate in the program in the first year, 75 in the second year, and 125 in the third year for a total of 300 potential respondents.

Frequency of response: Partnership Agreements are a one-time submission; Promotional Plans, Annual Updates, and Award Application forms are annual submissions, and Labeled Product or Service Application forms are submitted occasionally.

Estimated total average number of responses for each respondent: The estimated number of respondents averages 100 per year for the Partnership Agreements; and 192 respondents for Promotional Plans and Annual Updates. EPA estimates receiving approximately 126 Labeled Product or Service Applications each year and 100 Award Application forms the third year.

Estimated total annual burden hours: 10,081.

Estimated total annual costs: $655,037. This includes an estimate of non-labor costs of $22/partner in fax, photocopies, and telephone costs (plus an additional $35 in copy and mailing costs for award applicants). Manufacturer partners will also incur one-time testing costs for each product tested as follows: ET controllers: $2,500 each; moisture sensors: $8,500 each; toilets: $2,000 each; faucets: $200 each; plus an additional $65/test in associated photocopying and faxing costs.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: July 31, 2006.
James Hanlon,
Director, Office of Wastewater Management.

[FR Doc. E6-12625 Filed 8-3-06; 8:45 am]

BILLING CODE 6560-50-P